DEPARTMENT OF THE INTERIOR

Bureau of Land Management

[AK-040-02-1610-DO-086L]

Resource Management Plan; Ring of Fire

AGENCY: Bureau of Land Management (BLM), Anchorage Field Office.

ACTION: Notice of Intent (NOI) to prepare a Resource Management Plan (RMP) and Environmental Impact Statement (EIS), a request for information for the scoping process, and a call for coal resource information.

SUMMARY: Notice is hereby given that the BLM, Anchorage Field Office, Alaska, is initiating a planning effort to prepare the Ring of Fire RMP. This planning activity encompasses approximately 1.3 million acres of public land. Section 201 and 202 of the Federal Land Policy and Management Act of 1976 (FLPMA, 43 U.S.C. 1711) and the regulations in 43 CFR 1600 direct this planning effort. The plan will fulfill the needs and obligations set forth by the National Environmental Policy Act (NEPA). As required in 43 CFR 3420.1-2, this notice is also a specific call for coal resource information and identification of areas where there is an interest in future leasing and development of federal coal.

The BLM will work closely with interested parties to identify the management decisions that are best suited to the needs of the public. This collaborative process will take into account local, regional, and national needs and concerns. This notice initiates the public scoping process to identify planning issues and to develop planning criteria. The public is invited to nominate potential areas of critical environmental concern (ACEC), and river segments for wild and scenic river consideration during the planning process.

FOR FURTHER INFORMATION CONTACT: Interested parties may obtain further information or request to be placed on the mailing list for the Ring of Fire RMP planning effort by contacting Bob Lloyd, RMP Team Leader or Peter Ditton, Acting Field Manager, Anchorage Field Office, 6881 Abbott Loop Road, Anchorage, Alaska 99507, (907) 267-1246.

SUPPLEMENTARY INFORMATION: The planning area extends from below Dixon Entrance in southeast Alaska to Attu Island at the end of the Aleutian Chain and presents significant challenges. This is a lineal distance of some 2,500 miles. The area contains 80% of the total population of the State including Anchorage, the largest city, and Juneau, the State capital. The boundaries are the Canadian border for the southeast part of the planning area, the Matanuska-Susitna, Anchorage and Kenai Boroughs in Southcentral Alaska, Kodiak Island, and the Alaska Peninsula, and Aleutian Island Chain.

Within this 61,000,000 acre area there are approximately 1,300,000 acres (surface estate) of BLM-administered lands occurring as large blocks to small scattered tracts. Approximately 813,000 acres of the 1.3 million acres have been selected by the State of Alaska and Native Corporations, but have not been conveyed. Due to over selection, BLM will retain management of some of this selected land. Lands administered by BLM and not selected total approximately 463,000 acres.

Preliminary issues and management concerns have been identified by BLM and other agencies, and in meetings with individuals and user groups. They represent the BLM's knowledge to date on the existing issues and concerns with current management. The major issues that will be addressed in the plan effort are subsistence; oil and gas; access; locatable minerals; off-highway vehicle (OHV) use and designation; wild fire and fuels management; wild, scenic and recreation rivers; recreation; and land tenure adjustments.

DATES: The scoping comment period will commence with the publication of this notice. Meetings and comment deadlines will be announced through the local news media, newsletters and a web site to be developed by a contractor. Comments on issues and planning criteria should be received on or before the end of the scoping period at the address listed below.

Public Participation: Public meetings will be held throughout the plan scoping and preparation period. In order to ensure local community participation and input, public meetings will be scheduled in each of the planning areas. Early participation by all those interested is encouraged and will help determine the future management of lands within the Ring of Fire planning area. At least 15 days public notice will be given for activities where the public is invited to attend. The minutes and list of attendees for each meeting will be available to the public and open for 30 days to any participant who wishes to clarify the views they expressed. Written comments will be accepted throughout the planning process at the address shown below. In addition to the ongoing public participation process, formal opportunities for public participation will be provided through comment on the alternatives and upon publication of the BLM draft RMP/EIS.

ADDRESSES: Written comments should be sent to the Bureau of Land Management, Anchorage Field Office, 6881 Abbott Loop Road, Anchorage, Alaska 99507; Fax 907-267-1267. Documents pertinent to this proposal may be examined at the Anchorage Field Office located in Anchorage, Alaska. Comments, including names and street addresses of respondents, will be available for public review at the Anchorage Field Office located in Anchorage, Alaska during regular business hours 7:30 a.m. to 4 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping process.

An interdisciplinary approach will be used to develop the plan in order to consider the variety of resource issues and concerns identified. Disciplines involved in the planning process will include specialists with expertise in fire management, geology, forestry, outdoor recreation, archaeology, paleontology, subsistence, wildlife and fisheries, lands and realty, hydrology, soils, sociology and economics.

Peter J. Ditton,
Field Office Manager.

[FR Doc. 03-6272 Filed 3-18-03; 8:45 am]

BILLING CODE 4310-32-P